DEPARTMENT OF THE INTERIOR

Bureau of Land Management

[BLM_AK_FRN_MO4500173007]

Notice of New Recreation Fees on Public Lands in the Central Yukon Field Office, Alaska

AGENCY: Bureau of Land Management, Interior.

ACTION: Notice of new recreation fees.

SUMMARY: Pursuant to applicable provisions of the Federal Lands Recreation Enhancement Act (FLREA), the Bureau of Land Management (BLM), Central Yukon Field Office, intends to establish recreation fees for expanded amenities at Coldfoot, Alaska.

DATES: All new fees will take effect on July 8, 2024.

ADDRESSES: The business plan and information concerning the proposed fees may be reviewed at the Fairbanks District Office Public Room, 222 University Avenue, Fairbanks, AK 99709; or online at www.blm.gov/programs/recreation/permits-and-fees/business-plans.

FOR FURTHER INFORMATION CONTACT: William Hedman, Acting Field Manager, Central Yukon Field Office, telephone: (907) 474-2375, email: whedman@blm.gov.

Individuals in the United States who are deaf, blind, hard of hearing, or have a speech disability may dial 711 (TTY, TDD, or TeleBraille) to access telecommunications relay services for contacting Mr. La Marr. Individuals outside the United States should use the relay services offered within their country to make international calls to the point-of-contact in the United States.

SUPPLEMENTARY INFORMATION: The FLREA directs the Secretary of the Interior to publish a six-month advance notice in the Federal Register whenever new recreation fee areas are established.

The BLM intends to establish recreation fees for expanded amenities at the Coldfoot Cabin at milepost (MP) 175 along the Dalton Highway. The Central Yukon Field Office administers the BLM utility corridor and adjacent lands along the Dalton Highway from MP 56 to just south of MP 300 for recreation under the Dalton Highway Special Recreation Management Area. The Coldfoot Cabin is currently used administratively during the summer months and will be made available for rent as a public use cabin during the winter months.

The Coldfoot Cabin qualifies as a site where visitors can be charged an “Expanded Amenity Recreation Fee” under FLREA (16 U.S.C. 6802(g)). The cabin provides toilet facilities, refuse containers, picnic tables, access roads and parking, visitor protection, and fee collection by management personnel.

Effective July 8, 2024, the Central Yukon Field Office will initiate new fee collection at the facility unless the BLM publishes a Federal Register notice to the contrary. The BLM will begin collecting fees of $42 per night for cabin site rentals.

In accordance with BLM recreation fee program policy, the Central Yukon Field Office has developed a recreational fee business plan that is available as listed in the ADDRESSES section. The business plan explains the fee collection process and outlines how fees will be used at the fee site. Any future adjustments in the fee amounts would be handled in accordance with the business plan, with public notice before any fee increase.

The BLM notified and involved the public at each stage of the planning process for the new fees. The BLM posted written notices of the proposed fees at the fee site on April 20, 2023. It announced a 30-day public comment period on the draft business plan on April 20, 2023, through a BLM news release, BLM social media, and the BLM website. The draft business plan was publicly available for review and comment at the BLM Fairbanks District Office and on the BLM Alaska business plan website from April 20, 2023, to May 20, 2023.

(Authority: 16 U.S.C. 6803(b) and 43 CFR 2933)

Erika Reed,
BLM Alaska Acting State Director.

[FR Doc. 2024-00365 Filed 1-9-24; 8:45 am]

BILLING CODE 4331-10-P